COMMITTEE FOR PURCHASE FROM PEOPLE WHO ARE BLIND OR SEVERELY DISABLED

Procurement List; Additions and Deletions

AGENCY: Committee for Purchase from People Who Are Blind or Severely Disabled.

ACTION: Additions to and deletions from Procurement List.

SUMMARY: This action adds to the Procurement List products and services to be furnished by nonprofit agencies employing persons who are blind or have other severe disabilities, and deletes from the Procurement List products previously furnished by such agencies.

EFFECTIVE DATE: November 30, 2003.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION:

Additions

On August 9, August 29, and September 5, 2003, the Committee for Purchase From People Who Are Blind or Severely Disabled published notice (68 FR 47292, 51961/51962, and 52739/52740) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Product/NSN: C Shell CD Cases

7045-00-NIB-0181—Clear

7045-00-NIB-0189—5 Colors

NPA: Wiscraft Inc.—Wisconsin Enterprises for the Blind, Milwaukee, Wisconsin.

Contract Activity: Office Supplies & Paper Products Acquisition Center, New York, New York.

Product/NSN: Envelope, Inter-Departmental, Colored

7530-01-498-1086—Blue Kraft

7530-01-498-1088—Yellow Kraft

7530-01-498-1089—Red Kraft

NPA: Gateway Community Industries, Inc., Kingston, New York.

Contract Activity: Office Supplies & Paper Products Acquisition Center, New York, NY.

Product/NSN: H2Orange2

7930-00-NIB-0163—Ultimate Cleaner/Degreaser

7930-00-NIB-0326—Concentrate 117 Cleaner/Degreaser

930-00-NIB-0327—Grout Safe

7930-00-NIB-0341—Crystal Carpet Concentrate

7930-00-NIB-0342—Quick Spot Crystal Carpet Spot Remover

7930-00-NIB-0353—Mineral Shock Cleaner

NPA: Blind Industries & Services of Maryland, Baltimore, Maryland.

Contract Activity: Office Supplies & Paper Products Acquisition Center, New York, New York.

Product/NSN: Lighted Baton

6260-00-NIB-0005—Amber

6260-00-NIB-0006—InfraRed

6260-00-NIB-0008—Red

6260-00-NIB-0009—Green

6260-00-NIB-0010—Blue

6260-00-NIB-0011—Amber/Red

NPA: L.C. Industries For The Blind, Inc., Durham, North Carolina.

Contract Activity: Office Supplies & Paper Products Acquisition Center, New York, New York.

Product/NSN: Maritime Load Carriage System Kit (MLCS)

8415-00-NSH-0658

NPA: Chautauqua County Chapter, NYSARC, Jamestown, New York.

Contract Activity: U.S. Army Robert Morris Acquisition Center, Natick, Massachusetts.

Product/NSN: Skilcraft SAVVY Cleaning Products

7930-00-NIB-0080—SKILCRAFT SAVVY Green Plus—1 gallon

7930-00-NIB-0081—SKILCRAFT SAVVY Green Plus—5 gallon

7930-00-NIB-0082—SKILCRAFT SAVVY Green Plus—55 gallon

7930-00-NIB-0152—SKILCRAFT SAVVY Unreal Spot Remover—32 ounce

7930-00-NIB-0153—SKILCRAFT SAVVY Unreal Spot Remover—1 gallon

7930-00-NIB-0154—SKILCRAFT SAVVY Unreal Spot Remover—5 gallon

7930-00-NIB-0155—SKILCRAFT SAVVY Unreal Spot Remover—55 gallon

7930-00-NIB-0156—SKILCRAFT SAVVY Non Acid Bathroom Cleaner— 32 ounce

7930-00-NIB-0158—SKILCRAFT SAVVY Non Acid Bathroom Cleaner— 5 gallon

7930-00-NIB-0159—SKILCRAFT SAVVY Non Acid Bathroom Cleaner— 55 gallon

7930-00-NIB-0173—SKILCRAFT SAVVY Green Plus—32 ounce

7930-00-NIB-0183—SKILCRAFT SAVVY Green—32 ounce

7930-00-NIB-0184—SKILCRAFT SAVVY Green—5 gallon

7930-00-NIB-0185—SKILCRAFT SAVVY Green—1 gallon

7930-00-NIB-0189—SKILCRAFT SAVVY Green—55 gallon

NPA: Susquehanna Association for the Blind and Visually Impaired, Lancaster, Pennsylvania.

Contract Activity: Office Supplies & Paper Products Acquisition Center, New York, New York.

Product/NSN: Stand Up—Vertical Grip Stapler

7520-00-NSH-0200

NPA: The Arc of Bergen and Passaic Counties, Inc., Hackensack, New Jersey.

Contract Activity: Office Supplies & Paper Products Acquisition Center, New York, New York.

Product/NSN: Staple Remover

7520-00-162-6177

NPA: The Arc of Bergen and Passaic Counties, Inc., Hackensack, New Jersey.

Contract Activity: Office Supplies & Paper Products Acquisition Center, New York, New York.

Services

Service Type/Location: Custodial Services

VA Outpatient Clinic, Daytona Beach, Florida

NPA: ACT CORP., Daytona Beach, Florida.

Contract Activity: North Florida/South Georgia Veterans Health System, Gainesville, Florida.

Service Type/Location: Duplication and Copy Machine Operation

GSA 10 Causeway Street, 9th Floor, Boston, Massachusetts

NPA: Morgan Memorial Goodwill Industries, Boston, Massachusetts.

Contract Activity: GSA Region 1, Boston, Massachusetts.

Service Type/Location: Janitorial/Custodial

Leetown Science Center, Kearneysville, West Virginia

NPA: Job Squad, Inc., Clarksburg, West Virginia.

Contract Activity: U.S. Geological Survey, Reston, Virginia.

Service Type/Location: Janitorial/Custodial

Minton-Capehart Federal Building, Indianapolis, Indiana

NPA: GW Commercial Services, Inc., Indianapolis, Indiana.

Contract Activity: GSA, Public Buildings Service (5P), Chicago, Illinois.

Service Type/Location: Storage, Handling & Distribution of Consumer Labeling Initiative, Read the Label First! Promotional Items

Environmental Protection Agency, Washington, DC

NPA: Virginia Industries for the Blind, Charlottesville, Virginia.

Contract Activity: Environmental Protection Agency, Washington, DC.

Service Type/Location: Telephone Switchboard Operations

VA Medical Center, Kansas City, Missouri.

NPA: Alphapointe Association for the Blind, Kansas City, Missouri.

Contract Activity: VA Heartland Network 15, Leavenworth, Kansas.

Deletions

On July 11, 2003, the Committee for Purchase From People Who Are Blind or Severely Disabled published notice (68 FR 41298) of proposed deletions to the Procurement List. After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action may not result in any additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Product/NSN: Dropcloth

8340-01-444-3652

8340-01-444-3653

NPA: East Texas Lighthouse for the Blind, Tyler, Texas.

Contract Activity: GSA, Southwest Supply Center, Fort Worth, Texas.

Sheryl D. Kennerly,
Director, Information Management.

[FR Doc. 03-27471 Filed 10-30-03; 8:45 am]

BILLING CODE 6353-01-P